Title 3—

The President

Proclamation 10870 of December 9, 2024

Establishment of the Carlisle Federal Indian Boarding School National Monument

By the President of the United States of America

A Proclamation

For a century and a half spanning the early 19th and mid-20th centuries, the Federal Government removed American Indian, Alaska Native, and Native Hawaiian children (Native children) from their families, Tribes, and homelands, often by force or coercion, and transported them to institutions across the United States. These institutions collectively became known as the “Federal Indian boarding school system.” The Federal Government's goal was to assimilate Native children by stripping them of their languages, religions, and cultures. To that end, the children taken to these institutions were often separated from their families for years, and many never returned to their homes. The schools often used physical abuse, compulsory labor, and corporal punishment to achieve their assimilative ends. Many Native children were subjected to sexual abuse at the schools. School staff cut their hair, made them give up their traditional clothes and names, provided them with inadequate medical services, and deprived them of essential nutrition. According to available records, nearly 1,000 Native youths died in schools across the system, but the actual number of lives lost is likely much higher. Many children attempted to flee from schools in the system; while some managed to escape, those who did not often faced severe discipline. For the survivors of the schools, and for the families and Tribes whose children were taken from them, the trauma and violence inflicted by the Federal Indian boarding school system have had profound effects across multiple generations, and those impacts continue today.

The Federal Government's attempt to control and assimilate Native children into Anglo-European culture, society, and religion through the Federal Indian boarding school system was part of a broader effort to destroy American Indian, Alaska Native, and Native Hawaiian political, social, and cultural structures; stifle opposition and resistance in those communities; and appropriate Tribal lands, waters, and resources. This effort was carried out through policies implemented at Federal Indian boarding schools and actions taken by multiple executive departments and agencies across the administrations of 34 Presidents—from Thomas Jefferson through Lyndon B. Johnson—using today's equivalent of at least $23 billion in Federal appropriations.

Despite this system and other destructive Federal policies, Indian Tribes (Tribes, or Tribal Nations), including Alaska Native Villages, and the Native Hawaiian Community retained their identities and cultures and rebuilt their political and community institutions, including by taking over and transforming some of the Federal Indian boarding schools that once caused widespread and enduring pain.

Founded in 1879, the Carlisle Indian Industrial School (Carlisle School) in Pennsylvania was the first Federal off-reservation boarding school for Native children. By the time it ceased operations in 1918, the Carlisle School had subjected 7,800 Indian children from more than 140 Tribes to its coercive form of education. Some children were as young as 5 years old when they arrived. The Federal Indian boarding school system, which continued through the 1960s following practices first used at the Carlisle School, inflicted a legacy of individual, collective, and multi-generational trauma on Tribes and the Native Hawaiian Community.

The former campus of the Carlisle School is located within the boundaries of what is now the United States Army's Carlisle Barracks (Carlisle Barracks), one of the Nation's oldest military installations. The Continental Congress first used the property as a center for artillery and ordnance supplies for the Continental Army under General George Washington. In 1863, during the Civil War, Confederate troops torched buildings on the campus, which functioned at the time as a central supply center for the Union Army. The Federal Government rebuilt the barracks between 1863 and 1864 in the original footprint and style.

The Carlisle School campus was designated as a National Historic Landmark in 1961 and added to the National Register of Historic Places in 1966. The 24 historic structures associated with the Carlisle School include residential, vocational, and athletic buildings that evoke the Federal Indian boarding school era. Prominent among these are the historic School Road Gateposts. Constructed by the labor of children and youths at the Carlisle School, these gateposts were the first structures that some children taken to Carlisle would have seen as they walked along the pathway and entered the campus. The gateposts still stand today as a marker of the removal and separation of children from their families, Tribes, and homelands.

The concept of using the education of Native children and separation from their families and Tribes as weapons of control and religious conversion echoes back centuries to early colonial times in the 1600s. In 1819, the Congress laid the groundwork for a general system of Indian education by enacting the Civilization Fund Act (3 Stat. 516). The Act authorized the President to provide for “[e]mployment of instructors for Indians,” including “for teaching their children in reading, writing, and arithmetic,” and provided an annual appropriation of funds for that purpose. Over the ensuing five decades, these funds were distributed to various entities (particularly missionary organizations) and individuals “prominent in the effort to `civilize' the Indians.” At least 59 religious institutions and organizations received Federal Government funding to operate or support schools in the Federal Indian boarding school system.

The more immediate origins of the philosophy of the Federal Indian boarding school system trace to an organized “experiment of enforced civilization” in 1875. At that time, President Ulysses S. Grant's War Department, acting on directions from the Congress, selected Tribal members labeled as “hostiles” or “ringleaders” to be taken prisoner and transported by train from the West to Fort Marion, Florida. The United States Army targeted and arrested 72 members from a range of Tribes. The War Department then issued Special Orders detailing 1st Lieutenant Richard Henry Pratt of the 10th Cavalry to accompany the prisoners—a group of men, women, and children—on their trip and remain in charge of them upon arrival.

Pratt oversaw all aspects of the Fort Marion incarceration and treatment of the prisoners: cutting off their hair, clothing them in military uniforms, running military drills, selling their crafts and drawings, teaching them English, and assigning prisoners to work as laborers. During a speech delivered in 1892 to the National Conference of Charities and Corrections in Denver, Colorado, Pratt expressed his infamous approach to assimilation: “[T]hat all the Indian there is in the race should be dead. Kill the Indian in him and save the man.” This soon became the blueprint and philosophy for how children would be treated at Federal Indian boarding schools.

In 1882, the Congress authorized the Secretary of War to set aside any vacant posts or barracks for industrial training for Indian youth and to detail Army officers for Indian education under the direction of the Secretary of the Interior. Three years earlier, in August 1879, the Secretary of War had approved the first such transfer, of the vacant Carlisle Barracks in Pennsylvania, to the Secretary of the Interior to be used as a school for Native children. On October 6, 1879, 83 American Indian and Alaska Native children—24 girls and 59 boys—arrived at the newly founded Carlisle School. The Congress subsequently passed a law that paid a salary to Pratt, whom the Secretary of War had placed in charge of the Carlisle School at the request of the Secretary of the Interior. For almost 40 years, the Department of the Interior operated the Carlisle School as an Indian Industrial School, melding the approach of incarceration with assimilative education policies.

When children arrived at the Carlisle School, they were immersed in the practices of so-called “civilized” life—a term frequently used to describe the goal of the Federal Indian boarding schools in Federal Government reports. Their hair was cut and their clothing was replaced with military uniforms for boys and Victorian dresses for girls. One of the children brought to the Carlisle School in its opening year, Luther Standing Bear—a child of the Oglala Lakota Chief Standing Bear—later recounted his experience: “Now, after having my hair cut . . . I felt that I was no more Indian but would be an imitation of a white man.” Zitkala-Sa, a Dakota woman from the Yankton Sioux Reservation, recalled the confusion and fear she felt on her first day as a child at Carlisle, during which school officials dragged her from her hiding place under a bed, tied her to a chair, and forcibly cut her thick braids: “Then I lost my spirit. . . . In my anguish I moaned for my mother, but no one came to comfort me . . . for now I was only one of many little animals driven by a herder.”

All children at the Carlisle School experienced a regimented daily schedule starting at 6:00 a.m. and concluding with Taps and room inspection at 9:00 p.m. Sunday school, chapel services, Catholic instruction, and Bible study classes were required. Carlisle School instructors also imposed strict rules about teaching English and prohibited the children from speaking their native languages—a rule that was often enforced with corporal punishment.

“Vocational” or “industrial” training in the form of compulsory labor was a central component of the Carlisle School throughout its operation. Boys were assigned mechanics, blacksmithing, tin-smithing, wagon-making, carpentering, tailoring, shoemaking, harness-making, baking, painting, printing, and farming. Girls were assigned cooking, laundry, and housekeeping. In what became known as the “outing system”—an arrangement intended to “impart[ ] the lesson of Americanism”—Carlisle School administrators regularly sent children and youths to spend a portion of each year living with and working for white families. School administrators then deposited the children's compensation “to their credit” with the school.

Carlisle School leaders also used the children's labor to perform maintenance, construction, and operations work on the campus. Several buildings—including a large brick printing office, a gymnasium, a hospital, doctor's quarters, a model home, a laundry building, the Leupp Indian Art Studio, and a warehouse—were primarily constructed by the youths of the Carlisle School.

The Carlisle School's start as a Federal Indian boarding school coincided with the rise of American football. Although students also participated in other athletics, the Carlisle School used the football team as a means to earn publicity and garner support for the boarding school approach to assimilation. In 1899, the Carlisle School hired a well-known football coach, Glenn “Pop” Warner, and in the ensuing years the Carlisle football team boasted an impressive win-loss record, including victories over colleges such as Harvard and the University of Pennsylvania. Newspapers published articles with sensational stories and photographs of the Carlisle School games, spotlighting Carlisle student athletes Dennison Wheelock, Gus Welch, and Jim Thorpe. For a small number of players, like Thorpe, football provided access to higher educational opportunities and athletic success. But for most players, the Carlisle football team did not lead to additional opportunities.

Indeed, for the student body more generally, the athletic program amounted to another form of exploitation by the school. To fund the gymnasium, the Carlisle School took purported donations from the children's Individual Indian Money Accounts, which were trust accounts created and managed by the Federal Government. The school also used sales of items made by children and gate receipts from athletic events held on the Carlisle School's fields and cinder track for its own uses. A congressional investigation in 1914 received testimony that Warner used the Carlisle football game proceeds for his personal gain.

Conditions at the Carlisle School—located in a remote area over a thousand miles away from many children's homes—were unfamiliar and harsh. Children lived in close quarters and were exposed to diseases they had not encountered previously. More than 180 children died while attending the Carlisle School; many of them are buried in marked gravesites at the Carlisle Barracks Main Post Cemetery.

The Carlisle School's tenure as a Federal Indian boarding school ended in 1918, at the end of World War I, when the War Department took back control of the post and opened a hospital to care for wounded soldiers. At that time, 279 children left the Carlisle School and were transferred to other Federal Indian boarding schools.

The Carlisle School's legacy extends far beyond its almost 40 years of operation. The Carlisle School became a model replicated in more than 417 federally supported Indian boarding schools in 37 States and then-territories over the course of the next century. In addition, some Indian boarding schools were operated by religious institutions and organizations that did not receive Federal Government support. Across the Federal Indian boarding school system, the Federal Government's policies of cultural disruption and assimilation resulted in a collective loss of language, religion, and identity, and inflicted intergenerational trauma that persists today and remains a painful but important part of our Nation's story.

Many Tribal leaders resisted the Federal Indian boarding school system and took steps to try to protect Native children and reunite families. After the United States military entered Third Mesa of Hopi in 1890 and took 104 children from their families into the Federal Indian boarding school system, Hopi leaders refused to send additional Hopi children to the school. In response, in November 1894, the Federal Government arrested 19 Hopi leaders and held them as prisoners for nearly a year at Alcatraz Island in California, a former United States military installation. The names of these Hopi leaders were: Heevi'ima, Polingyawma, Masatiwa, Qotsventiwa, Piphongva, Lomahongewma, Lomayestiwa, Yukiwma, Tuvehoyiwma, Patu-pha, Qotsyawma, Sikyakeptiwa, Talagayniwa, Talasyawma, Nasingayniwa, Lomayawma, Tawalestiwa, Aqawsi, and Qoiwiso.

On May 23, 1881, Chief Spotted Tail and parents from the Rosebud Sioux Tribe requested that the Federal Government return the human remains of Rosebud Sioux Tribe children buried at the Carlisle School to their Indian Reservation in South Dakota. On July 14, 2021—over 140 years later—the Army transferred the human remains of nine children to the Rosebud Sioux Tribe to return them to their homelands. The names of these nine children were: Dennis Strikes First (Blue Tomahawk); Rose Long Face (Little Hawk); Lucy Take The Tail (Pretty Eagle); Warren Painter (Bear Paints Dirt); Ernest Knocks Off (White Thunder); Maud Little Girl (Swift Bear); Alvan, aka Roaster, Kills Seven Horses, One That Kills Seven Horses; Friend Hollow Horn Bear; and Dora Her Pipe (Brave Bull). The Army is currently implementing its Carlisle Barracks Disinterment Program, which, consistent with Army regulations and policy, promotes engagement with the Tribes and families of the children who died at the Carlisle School to return their remains to their ancestral homelands. This program has successfully disinterred and returned the remains of 41 children to their families.

Many buildings that made up or are connected to the original Carlisle School campus remain. Twenty-four historic structures associated with the Carlisle School have been preserved by the Army and stand today within the National Historic Landmark district at Carlisle Barracks. In addition to those structures mentioned above, the site also includes living quarters, the Superintendent's residence, the “Pop” Warner House, Washington Hall, the Hessian Powder Magazine (built in 1777 and known since 1870 as a guard house), and athletic fields that parallel the original Carlisle School track. The four School Road Gateposts, when constructed in 1910, marked the main entrance to the boarding school campus.

Designating the former campus of the Carlisle School, with boundaries consistent with the National Historic Landmark, as a national monument will help ensure this shameful chapter of American history is never forgotten or repeated. Establishing a national monument at the historic Carlisle School and acknowledging the Federal Government's policies aimed at destroying Tribal and Indigenous political structures, cultures, and traditions—including through the Federal Indian boarding school system—takes a step toward redress and national healing in the arc of the survival, resilience, and triumph of Indian Tribes (including Alaska Native Villages) and the Native Hawaiian Community.

WHEREAS, section 320301 of title 54, United States Code (the “Antiquities Act”), authorizes the President, in the President's discretion, to declare by public proclamation historic landmarks, historic and prehistoric structures, and other objects of historic or scientific interest that are situated upon the lands owned or controlled by the Federal Government to be national monuments, and to reserve as a part thereof parcels of land, the limits of which shall be confined to the smallest area compatible with the proper care and management of the objects to be protected; and

WHEREAS, the Department of the Interior, at the direction of the Secretary of the Interior, who is herself a descendant of survivors of the Federal Indian boarding school system, established the Federal Indian Boarding School Initiative, which has helped bring to light the extensive breadth and depth of the role the Federal Government played in creating the Federal Indian boarding school system; and

WHEREAS, I issued a long-overdue Presidential apology to Tribal Nations and Native people on behalf of the Federal Government acknowledging the lasting harms caused by the Federal Indian boarding school policy and recognizing the need to learn from this history and advance the goal of healing; and

WHEREAS, the Carlisle School was the Nation's first off-reservation Federal Indian boarding school, provided a template for institutions across the Nation and internationally for its assimilation practices, and today remains one of the Nation's best-preserved examples of the Federal Indian boarding school era; and

WHEREAS, the Department of the Army (Army) has taken steps to preserve part of the Carlisle School campus and the historic objects it contains, ensuring that its history can be told; and

WHEREAS, the historic buildings and pathways that are part of the Carlisle School campus—where thousands of Native children lived, and in some cases died, far from their families, Tribes, and homelands; were compelled to participate in school activities designed to separate them from their cultures and identities; and performed compulsory manual labor—are important historic objects that reflect and embody the Carlisle School's years of operation and the similar practices of other institutions in the Federal Indian boarding school system; and

WHEREAS, the School Road Gateposts are a nationally significant passageway and an historic object on the site through which Native children walked after being removed from their homes and families during the Federal Indian boarding school era, and are contributing features of the Carlisle Indian Industrial School National Historic Landmark first designated by the Secretary of the Interior in 1961 and updated in 1985; and

WHEREAS, designation of the monument will further the efforts of the United States to aid in recovery, reconciliation, and healing for Indian Tribes, the Native Hawaiian Community, and survivors and their descendants affected by the Federal Indian boarding school system, while honoring and mourning the lives of Native children lost and celebrating those who persisted; and

WHEREAS, I find that all the objects identified above, and objects of the type identified above within the area described herein, are objects of historic interest in need of protection under section 320301 of title 54, United States Code, regardless of whether they are expressly identified as objects of historic interest in the text of this proclamation; and

WHEREAS, I find that the boundaries of the monument reserved by this proclamation represent the smallest area compatible with the proper care and management of the objects of historic interest identified above, as required by the Antiquities Act; and

WHEREAS, it is in the public interest to preserve and protect the objects of historic interest associated with the Carlisle School and its prominent role in the story of Federal Indian boarding schools instituted under the United States policy of forced assimilation of Native children;

NOW, THEREFORE, I, JOSEPH R. BIDEN JR., President of the United States of America, by the authority vested in me by section 320301 of title 54, United States Code, hereby proclaim the objects identified above that are situated upon lands and interests in lands owned or controlled by the Federal Government to be part of the Carlisle Federal Indian Boarding School National Monument (monument) and, for the purpose of protecting those objects, reserve as part thereof all lands and interests in lands that are owned or controlled by the Government of the United States within the boundaries described on the accompanying map, which is attached to and forms a part of this proclamation. The reserved Federal lands and interests in lands within the monument's boundaries consist of approximately 24.5 acres, which are coextensive with the boundaries of the Carlisle Indian Industrial School National Historic Landmark and lie within the approximately 520-acre boundary of Carlisle Barracks. The boundaries described on the accompanying map are confined to the smallest area compatible with the proper care and management of the objects to be protected.

All Federal lands and interests in lands within the boundaries of the monument are hereby appropriated and withdrawn from all forms of entry, location, selection, sale, or other disposition under the public land laws or laws applicable to the Army, including withdrawal from location, entry, and patent under the mining laws, and from disposition under all laws relating to mineral, solar, and geothermal leasing. The establishment of the monument is subject to valid existing rights.

The Secretary of the Army is hereby directed to transfer to the National Park Service (NPS) administrative jurisdiction over the approximately 258 square feet (0.006 acres) identified by the Army as the School Road Gateposts. In furtherance of the Antiquities Act and pursuant to their respective legal authorities, the Secretary of the Interior and the Secretary of the Army shall manage the monument through the NPS and the Army, respectively. The management of the monument shall be conducted in a cooperative manner, in accordance with the terms, conditions, and direction provided by this proclamation, and consistent with an agreement between the NPS and the Army that details their respective duties and responsibilities for management of the monument.

Following transfer of administrative jurisdiction over the School Road Gateposts, the NPS shall administer that portion of the monument, and the Army shall continue to administer the remaining portion of the monument. The NPS shall be responsible for interpretation of and education regarding the entirety of the monument in consultation with the Army.

Within 3 years of the date of this proclamation, or as soon as practicable to incorporate Tribal views, knowledge, and expertise, as appropriate, for the purpose of preserving, interpreting, and enhancing the public understanding and appreciation of the monument, the NPS, in consultation with the Army, shall prepare a management plan for the monument. The management plan shall ensure the monument fulfills the following purposes for the benefit of present and future generations: (1) to preserve the historic resources within the boundaries of the monument; (2) to interpret the story of the Carlisle School and its significance to the history of the Federal Indian boarding school system; and (3) to commemorate the efforts and resilience of Tribal Nations and Indigenous Peoples, including survivors of the Carlisle School and others affected by Federal Indian boarding schools, who are working to advance healing and reconciliation, to recover Native languages and cultures, and to chart a vibrant future for all Native children.

In recognition of the centrality of Tribal participation to tell this story, to inform interpretation of the objects that are part of the monument, and to enhance public understanding and appreciation of the monument, the Secretary of the Interior, through the NPS and in coordination with the Army, shall meaningfully engage Tribal Nations and the Native Hawaiian Community in the development of the management plan and ongoing management of the monument. The Secretary of the Interior, through the NPS, shall also take steps to ensure that management decisions affecting the monument incorporate Tribal expertise and Indigenous Knowledge in an appropriate manner consistent with Tribal Nations' concerns for protecting Indigenous Knowledge and expertise. The Secretary of the Interior, through the NPS, shall enter into an agreement with interested federally recognized Indian Tribes to set forth terms, pursuant to applicable laws, regulations, and policies, for co-stewardship of the monument. The Secretary of the Interior, through the NPS, shall also provide for consultation with any federally recognized Indian Tribe with historical connections to any part of the Federal Indian boarding school system regarding the interpretation of that system's history at the monument.

As the Federal Indian boarding school system affected nearly every Indian Tribe (including Alaska Native Villages) and the Native Hawaiian Community, and in view of the wide array of resulting experiences and perspectives, the Secretary of the Interior, through the NPS, is also directed, as appropriate, to use applicable authorities to seek to enter into agreements with other entities to address common interests related to the interpretation of and education regarding the monument, and care and preservation of historic objects therein. These entities may include Dickinson College; the Cumberland County Historical Society; Phoenix Indian School; Haskell Indian Nations University; Stewart Indian School Cultural Center and Museum; Sheldon Jackson Museum; Fort Apache Heritage Foundation, Inc.; Kamehameha Schools; and existing National Park System units with resources related to the Federal Indian boarding school system.

Nothing in this proclamation shall affect or diminish the Army's authority to administer Carlisle Barracks, including the Army's ability to execute its mission at Carlisle Barracks, or the Army's obligations to comply with environmental protection and historic preservation laws or engage in appropriate Tribal consultation. Further, nothing in this proclamation shall limit the Army's ability to control public access to Carlisle Barracks or take all necessary measures to ensure emergency preparedness, safety, and security.

Nothing in this proclamation shall be deemed to revoke any existing withdrawal, reservation, or appropriation; however, the monument shall be the dominant reservation.

Warning is hereby given to all unauthorized persons not to appropriate, injure, destroy, or remove any feature of the monument and not to locate or settle upon any of the lands thereof.

If any provision of this proclamation, including application to a particular parcel of land, is held to be invalid, the remainder of this proclamation and its application to other parcels of land shall not be affected thereby.

IN WITNESS WHEREOF, I have hereunto set my hand this ninth day of December, in the year of our Lord two thousand twenty-four, and of the Independence of the United States of America the two hundred and forty-ninth.

Billing code 3395-F4-P

[FR Doc. 2024-29459

Filed 12-11-24; 8:45 am]

Billing code 4310-10-C